DEPARTMENT OF ENERGY

Federal Energy Regulatory Commission

[Docket No. CP08-58-000]

Transcontinental Gas Pipe Line Corporation; Prior Notice of Activity Under Blanket Certificate

January 24, 2008.

Take notice that on January 18, 2008, Transcontinental Gas Pipe Line Corporation (TGPL) filed a prior notice request pursuant to sections 157.205, 157.208 and 157.210 of the Federal Energy Regulatory Commission's (Commission) regulations under the Natural Gas Act, and TGPL's blanket certificate issued in Docket No. CP82-426, for authorization to replace three segments of mainline pipeline in Howard County, Maryland (MD).

As a result of population density increases along TGPL's mainline, TGPL must upgrade three parallel segments of pipeline—Mainlines A, B and C—each approximately 0.377 miles long, in Howard County, MD. These replacements are required in order to ensure compliance with the United States Department of Transportation's (USDOT) regulations at 49 CFR 192.611 and to maintain certificated service and the safety and reliability of TGPL's mainline. The replacement will take place in an area recently classified as meeting the USDOT Class 4 regulations, as defined at 49 CFR 192.5(b)(4). The estimated total cost of all pipeline replacements is approximately $9.6 million. TGPL's proposal is more fully described in the application that is on file with the Commission.

Any questions regarding the application should be directed to Bill Hammons LLP, P.O. Box 1396, Houston, Texas 77251 at (713) 215-2130.

Any person or the Commission's staff may, within 60 days after issuance of the instant notice by the Commission, file pursuant to Rule 214 of the Commission's Procedural Rules (18 CFR 385.214) a motion to intervene or notice of intervention and pursuant to Section 157.205 of the regulations under the NGA (18 CFR 157.205), a protest to the request. If no protest is filed within the time allowed therefore, the proposed activity shall be deemed to be authorized effective the day after the time allowed for filing a protest. If a protest is filed and not withdrawn within 30 days after the allowed time for filing a protest, the instant request shall be treated as an application for authorization pursuant to section 7 of the NGA.

Protests will be considered by the Commission in determining the appropriate action to be taken, but will not serve to make protestants parties to the proceeding. Any person wishing to become a party must file a notice of intervention or motion to intervene, as appropriate. Such motions or protests must be filed on or before the comment date. Anyone filing a motion to intervene or protest must serve a copy of that document on the Applicant, on or before the comment date. It is not necessary to serve motions to intervene or protests on persons other than the Applicant.

The Commission encourages electronic submission of comments, protests and interventions in lieu of paper using the “eFiling” link at http://www.ferc.gov. Persons unable to file electronically should submit an original and 14 copies of the protest or intervention to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Kimberly D. Bose,
Secretary.

[FR Doc. E8-1625 Filed 1-29-08; 8:45 am]

BILLING CODE 6717-01-P